DEPARTMENT OF HEALTH AND HUMAN SERVICES

National Institutes of Health

Proposed Collection; Comment Request; Tobacco Use Supplement to the Current Population Survey: 2003 Tobacco Use Special Cessation Supplement to CPS

SUMMARY: In compliance with the requirement of section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection

Title: Tobacco Use Supplement to the Current Population Survey: 2003 Tobacco Use Special Cessation Supplement to CPS.

Type of information request: Revision of OMB #0925-0368, Expiration 02/28/2003.

Need and Use of Information Collection: The 2003 Tobacco Use Special Cessation Supplement to the Current Population Survey conducted by the Census Bureau will collect data from the civilian non-institutionalized population on tobacco use and smoking prevalence, cessation behavior (i.e., quit attempts, successful quitting), use of cessation products and methods, measure level of addiction and plans to quit, workplace smoking policies, health professional advice to stop smoking, and use of different types of cigarettes and potential harm reduction products. This survey will provide invaluable information to government agencies, other scientists and the general public necessary for tobacco control research, as well as measure progress toward tobacco control as part of the National Cancer Institute's Extraordinary Opportunities in Tobacco Research. This survey is part of a continuing series of surveys that were sponsored by NCI and fielded periodically over the 1990's by the Census Bureau as part of the American Stop Smoking Intervention Study for Cancer Prevention (ASSIST) project and made available for general public use. The Tobacco Use Supplements will be continuing over the next decade alternating between a standard or core tobacco use survey (such as the 2001-2002 survey) and a special topic survey focusing on emerging adult tobacco control issues (such as this 2003 Tobacco Use Special Cessation Supplement). The survey will allow state specific estimates to be made. Data will be collected in February 2003, June 2003 and November 2003 from approximately 265,000 respondents. The National Cancer Institute is co-sponsoring this survey with the Centers for Disease Control and Prevention.

Frequency of Response: One-time study.

Affected Public: Individuals or households.

Type of respondents: Person 15 years of age or older. The total reporting burden is as follows:

Estimated Number of Respondents: 265,000;

Estimated Number of Responses per Respondent: 1;

Average Burden Hours per Response: 0.1169; and

Estimated Total Burden Hours Requested: 30,980. The total cost to respondents is estimated at $309,800. There are no Capital Costs, Operating Costs, and/or Maintenance Costs to report.

Request for Comments

Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

FOR FURTHER INFORMATION CONTACT: To request more information on the proposed project or to obtain a copy of the data collection plans and instruments, contact Anne Hartman, Health Statistician, National Cancer Institute, Executive Plaza North, Suite 4005, Bethesda, Maryland 20892-7344, or call non-toll free (301) 496-4970, or FAX your request, to (301) 435-3710, or e-mail your request, including your address, to ah42t@nih.gov or Anne_Hartman@nih.gov.

Comments Due Date

Comments regarding this information collection are best assured of having their full effect if received within 60 days of the date of this publication.

Dated: August 5, 2002.
Reesa Nichols,
OMB Project Liaison Officer.

[FR Doc. 02-20692 Filed 8-14-02; 8:45 am]

BILLING CODE 4140-01-M